DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments concerning proposed revisions to three of the existing electric power surveys that expire November 30, 2004. The surveys are: Form EIA-826, “Monthly Electric Sales and Revenue with State Distributions Report,” Form EIA-861, “Annual Electric Power Industry Report,” and Form EIA-906, “Power Plant Report.”

DATES: Written comments must be filed on or before August 25, 2003. If you anticipate difficulty in submitting comments within that period, contact the person listed below as soon as possible.

ADDRESS: Send comments to Stan Kaplan. To ensure receipt of the comments by the due date, submission by e-mail (stan.kaplan@eia.doe.gov) is recommended. Comments can be sent by FAX to 202-287-1934. The mailing address is Energy Information Administration, Electric Power Division, EI-53, U.S. Department of Energy, Washington, DC 20585-0650. Alternatively, Stan Kaplan may be contacted by telephone at (202) 287-1803.

FOR FURTHER INFORMATION CONTACT: Requests for additional information or copies of the proposed revised Forms EIA-826, “Monthly Electric Sales and Revenue with State Distributions Report,” with instructions, EIA-861, “Annual Electric Power Industry Report,” with instructions, and EIA-906, “Power Plant Report,” with instructions should be directed to Stan Kaplan at the address listed above. The revised Schedule I, Part A through Part C of the Form EIA-826, “Monthly Electric Sales and Revenue with State Distributions Report,” the revised Schedule IV, Part A through Part C of the Form EIA-861, “Annual Electric Power Industry Report,” and the revised Form EIA-906, “Power Plant Report,” are also available on EIA's Web site at http://www.eia.doe.gov/cneaf/electricity/page/forms.html.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resources, reserves, production, demand, technology, and related economic and statistical information. Among other activities, this information is used to assess the adequacy of energy resources to meet near and longer-term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval of survey changes by the Office of Management and Budget (OMB) under section 3507(a) of the Paperwork Reduction Act of 1995.

The EIA collects information about the electric power industry for use by government and private sector analysts. The survey information is disseminated in a variety of publications, electronic products, and electronic data files. For details on EIA's electric power information program, please visit EIA's Web site at http://www.eia.doe.gov/fuelelectric.html.

II. Current Actions

The EIA will request OMB approval of modifications to Schedule I, Part A through Part C of the Form EIA-826, to Schedule IV, Part A through Part C of the Form EIA-861, and to the Form EIA-906.

The proposed changes to the Form EIA-826 and Form EIA-861 reflect the need to revise the definition of the commercial and industrial sectors to include data previously reported in the “other” sector and to add two new sector categories, transportation and irrigation. Electricity used for public street and highway lighting, interdepartmental or intra-company sales (sales to other departments within the entity), and sales to public authorities has been reported in the “other” sector but would now be reported in the commercial sector. Electricity sales for agriculture, excluding irrigation, has been reported in the “other” sector but would now be reported in the industrial sector.

Data on revenues, megawatthours, and number of customers for electric energy supplied for transportation, such as electrified rails, would now be reported in the transportation sector and energy supplied for irrigation would now be reported in the irrigation sector.

The proposed changes to the Form EIA-906 reflect the need to collect information on fuel used to generate electric power at the facility level. In addition, data on electricity generation and fuel used to generate electricity are needed at the prime mover, the motive force that drives an electric generator (e.g. steam engine, turbine, or water wheel).

As a means of improving the three electric power surveys, EIA proposes the following specific changes:

Form EIA-826,“Monthly Electric utility Sales and Revenue with State Distributions Report,” will eliminate reporting in the “other” sector and have that information reported in the appropriate commercial and industrial sectors on Schedule I, Parts A through C. In addition, two new sector categories, transportation and irrigation, will be added on Schedule I, Part A through Part C.

Form EIA-861,“Annual Electric Power Industry Report,” will eliminate reporting in the “other” sector and have that information reported in the appropriate commercial and industrial sectors on Schedule IV, Parts A through C. In addition, two new sector categories, transportation and irrigation, will be added on Schedule IV, Part A through Part C.

Form EIA-906, “Power Plant Report,” will collect information on total fuel used and fuel used to generate electric power, rather than the production of heat and/or steam that is used in industrial processes. In addition, the form will collect some data elements at the prime mover level, while continuing to collect other data at the facility level.

Those elements that are proposed to be collected at the prime mover level include electricity generation and the fuel(s) used to generate electricity.

III. Request for Comments

Prospective respondents and other interested parties should comment on the actions discussed in item II. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. The estimated reporting burdens for these three forms are not expected to change with the proposed revisions. The reporting burdens are: 1.50 hours per monthly response for Form EIA-826, “Monthly Electric Sales and Revenue With State Distributions Report,” 7.30 hours per annual response for Form EIA-861, “Annual Electric Power Industry Report,” and 1.40 hours per response on the Form EIA-906, “Power Plant Report.” These estimated burdens include the total time necessary to provide the requested information. In your opinion, how accurate are these estimates?

E. The agency's estimate in the above paragraph is only the cost to a respondent for the time it will take to complete each form. Due to the proposed changes, will a respondent incur any start-up costs for reporting, or any recurring annual costs for operation, maintenance, and purchase of services associated with these forms?

F. What additional actions could be taken to minimize the burden of these forms? Such actions may involve the use of automated, electronic, mechanical, or other technological collection techniques or other types of information technology.

G. To your knowledge, does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. No. 104-13, 44 U.S.C. Chapter 35).

Issued in Washington, DC, June 18, 2003.
Jay H. Casselberry,
Agency Clearance Officer, Statistics and Methods Group, Energy Information Administration.

[FR Doc. 03-15886 Filed 6-23-03; 8:45 am]

BILLING CODE 6450-01-P